DEPARTMENT OF ENERGY

Federal Energy Regulatory Commission

[Docket No. RP00-267-000]

ANR Pipeline Company; Notice of Proposed Change in FERC Gas Tariff

May 5, 2000.

Take notice that on May 1, 2000, ANR Pipeline Company (ANR) tendered for filing as part of FERC Gas Tariff, Second Revised Volume No. 1, the following revised tariff sheets to be effective June 1, 2000.

Primary Case

Twenty-Eighth Revised Sheet No. 17

Second Revised Sheet No. 141

Alternate Case

Alternate Twenty-Eight Revised Sheet No. 17

ANR states that this filing includes both a primary and an alternative set of tariff sheets. In its primary case, ANR seeks to reduce its currently effective cashout surcharge applicable to all cashout activity to $0.000, and implement an interim cashout surcharge applicable to service under Rate Schedules PTSB1, PTS-2 and PTS-3 for the purpose of giving ANR an opportunity to recover its cumulative cashout imbalance. The interim change of $0.0120 per Dth is estimated to be in effect for a period of one year. In the alternative, if the primary case is not accepted by the Commission, ANR proposes to increase its currently effective cashout surcharge, from $0.1211 per Dth to $0.3344, pursuant to section 15.5 of the General Terms and Conditions of its tariff.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-11779 Filed 5-10-00; 8:45 am]

BILLING CODE 6717-01-M